DEPARTMENT OF COMMERCE

Foreign-Trade Zones Board

[B-6-2025]

Foreign-Trade Zone (FTZ) 7; Authorization of Production Activity; Lilly del Caribe, Inc.; (Pharmaceutical Products); Carolina, Puerto Rico

On January 30, 2025, Lilly del Caribe, Inc. submitted a notification of proposed production activity to the FTZ Board for its facility within Subzone 7K, in Carolina, Puerto Rico.

The notification was processed in accordance with the regulations of the FTZ Board (15 CFR part 400), including notice in the Federal Register inviting public comment (90 FR 9410, February 12, 2025). On June 20, 2025, the applicant was notified of the FTZ Board's decision that no further review of the activity is warranted at this time. The production activity described in the notification was authorized, subject to the FTZ Act and the FTZ Board's regulations, including section 400.14.

Dated: June 20, 2025.
Elizabeth Whiteman,
Executive Secretary.

[FR Doc. 2025-11909 Filed 6-26-25; 8:45 am]

BILLING CODE 3510-DS-P